DEPARTMENT OF THE INTERIOR

National Park Service

Environmental Statements; Availability etc.: Voyageurs National Park, MN; General Management/Visitor Use and Facilities Plan

AGENCY: National Park Service, DOI.

ACTION: Notice of availability of the Draft General Management Plan/Visitor Use and Facilities Plan and the Draft Environmental Impact Statement for Voyageurs National Park, Minnesota.

SUMMARY: Pursuant to section 102(2) of the National Environmental Policy Act of 1969, the National Park Service announces the availability of the Draft General Management Plan/Visitor Use and Facilities Plan and the Draft Environmental Impact Statement (DGMP/DEIS) for Voyageurs National Park. This notice also announces public open houses for the purposes of explaining the DGMP/DEIS and receiving public comments on the document.

DATES: There will be a 60-day public review period for comments on this DGMP/DEIS. Comments must be received no later than August 23, 2000. Public open houses for information about, or to make comment on the DGMP/DEIS will be held at the following dates and locations:

Monday, July 24, 2000 at the Holiday Inn, 1500 Highway 71, International Falls, MN;

Tuesday, July 25, 2000 at the American Legion Hall, Orr, MN (behind Pattenn's Cafe)

Wednesday, July 26, 2000 at the Holiday Inn (Great Lakes Ballroom), 200 West First Street, Duluth, MN; and

Thursday, July 27, 2000 at the Sheraton Inn Midway (Minnesota II Room), 400 North Hamline Avenue, St. Paul, MN.

All open houses will begin at 6:30 p.m. and last until 9:30 p.m.

FOR FURTHER INFORMATION CONTACT: Kathleen Przybylski, Voyageurs National Park, 3131 Highway 53, International Falls, MN 56649; telephone 218-283-9821. Copies of the plan may also be requested at this address and telephone number, or by e-mail from Kathleen_Przybylski@nps.gov.

SUPPLEMENTARY INFORMATION: Comments on this DGMP/DEIS are solicited at this time. Comments may be submitted by several methods. You may attend one of the public open houses noted above. You may mail comments to: General Management Plan, Voyageurs National Park, 3131 Highway 53, International Falls, MN 56649. You also may comment via e-mail to Kathleen_Przybylski@nps.gov.

If individuals submitting comments request that their name and/or address be withheld from public disclosure, it will be honored to the extent allowable by law. Such requests must be stated prominently in the beginning of the comments. As always, the NPS will make available to public inspection all submissions from organizations or businesses and from persons identifying themselves as representatives or officials of organizations and businesses. Anonymous comments will not be considered.

The purpose of the General Management Plan/Visitor Use and Facilities Plan is to set forth the basic management philosophy for the Park and to provide the strategies for addressing issues and achieving identified management objectives. The DGMP/DEIS describes and analyzes the environmental impacts of a proposed action and two action alternatives for the future management direction of the Park. A no action alternative is also evaluated.

Alternative 1 is the no-action alternative. It would continue current management practices and actions, and provides a baseline for comparison of the other alternatives. The proposed action combines elements from all of the alternatives and presents a balanced approach for resource management and visitor use.

Alternative 2 emphasizes resource preservation, providing a greater balance in the types of visitor uses and experiences, and focusing partnerships on preservation, visitor services, facilities, and information. This alternative would provide more opportunities for visitors to experience solitude and a natural setting.

Alternative 3 emphasizes the visitor experience. The widest range and largest quantity of activities, facilities, and experiences consistent with the Park's mission, purpose, and significance would be developed. Resource protection to ensure a quality visitor experience would be emphasized.

The responsible official is Mr. William Schenk, Midwest Regional Director, National Park Service.

Dated: June 9, 2000.
William W. Schenk,
Regional Director, Midwest Region.

[FR Doc. 00-15232 Filed 6-15-00; 8:45 am]

BILLING CODE 4310-70-P